NUCLEAR REGULATORY COMMISSION

[Docket No. 50-400]

Carolina Power & Light Company; Shearon Harris Nuclear Power Plant, Unit 1, Environmental Assessment and Finding of No Significant Impact

The U.S. Nuclear Regulatory Commission (the Commission) is considering issuance of an amendment to Facility Operating License No. NPF-63, issued to Carolina Power & Light Company (CP&L, the licensee), for operation of the Shearon Harris Nuclear Power Plant, Unit 1, (HNP) located in Wake and Chatham Counties, North Carolina.

Environmental Assessment

Identification of the Proposed Action

The proposed action is a one time exemption from the requirements of Title 10 of the Code of Federal Regulations (10 CFR) Part 50, Appendix E, Items IV.F.2.b and c regarding conduct of a full participation exercise of the onsite and offsite emergency plans every 2 years. Under the proposed exemption, the licensee would reschedule the exercise originally scheduled for September 21, 1999, and complete the onsite and offsite exercise requirements in two parts. The licensee would use the onsite exercise conducted on January 11, 2000, without the participation of the State of North Carolina and local government response agencies, to meet the onsite requirement. The offsite portion of the exercise would be conducted on June 27, 2000, with the participation of the State of North Carolina and local government response agencies.

The proposed action is in accordance with the licensee's application for an exemption dated December 7, 1999.

The Need for the Proposed Action

10 CFR Part 50, Appendix E, Items IV.F.2.b and c requires each licensee at each site to conduct an exercise of its onsite and offsite emergency plan every 2 years. Federal agencies (the Nuclear Regulatory Commission for the onsite exercise portion and the Federal Emergency Management Agency for the offsite exercise portion) observe these exercises and evaluate the performance of the licensee, State and local authorities having a role under the emergency plan.

The licensee had initially planned to conduct an exercise of its onsite and offsite emergency plan on September 21, 1999, within the required 2-year required interval. However, due to the significant impact and damage from hurricane “Floyd,” the State of North Carolina and the local emergency response agencies were occupied with responding to the natural disaster and were unable to participate in and could not support the exercise.

Environmental Impacts of the Proposed Action

The Commission has completed its evaluation of the proposed action and concludes that the proposed action involves an administrative activity (a schedular change in conducting an exercise) unrelated to plant operations.

The proposed action will not increase the probability or consequences of accidents, no changes are being made in the types of any effluents that may be released offsite, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Shearon Harris Nuclear Power Plant.

Agencies and Persons Consulted

In accordance with its stated policy, on February 22, 2000, the staff consulted with the North Carolina State official, Mr. Johnny James of the North Carolina Department of Environment and Natural Resources, regarding the environmental impact of the proposed action. The State official had no comments. In addition, by letter dated January 19, 2000, from Ms. Vanessa Quinn, the Federal Emergency Management Agency indicated support for rescheduling the exercise.

Finding of No Significant Impact

On the basis of the environmental assessment, the Commission concludes that the proposed action will not have a significant effect on the quality of the human environment. Accordingly, the Commission has determined not to prepare an environmental impact statement for the proposed action.

For further details with respect to the proposed action, see the licensee's letter dated December 7, 2000, which is available for public inspection at the Commission's Public Document Room, The Gelman Building, 2120 L Street, NW., Washington, DC. Publicly available records will be accessible electronically from the ADAMS Public Library component on the NRC Web site, http:\\www.nrc.gov (the Electronic Reading Room).

Dated at Rockville, Maryland, this 9th day of March 2000.
For the Nuclear Regulatory Commission.
Richard J. Laufer,
Project Manager, Secton 2 Project Directorate II, Division of Licensing Project Management, Office of Nuclear Reactor Regulation.

[FR Doc. 00-6500 Filed 3-15-00; 8:45 am]

BILLING CODE 7590-01-P